DEPARTMENT OF THE INTERIOR

Bureau of Land Management

[WO-320-1330-PB-24 1A]

Extension of Approved Information Collection, OMB Approval Number 1004-0103

AGENCY: Bureau of Land Management, Interior.

ACTION: Notice and request for comments.

SUMMARY: In accordance with the Paperwork Reduction Act of 1995, the Bureau of Land Management (BLM) is requesting the Office of Management and Budget (OMB) to extend an existing approval to collect information from applicants who apply to purchase mineral materials from public lands under regulations 43 CFR 3600 and 3610. BLM uses Form 3600-1 (Contract for the Sale of Mineral Materials) to collect information so that we can evaluate the environmental impacts of their proposals.

DATES: You must submit your comments to BLM at the address below on or before October 1, 2001. BLM will not necessarily consider any comments received after the above date.

ADDRESSES: You may mail comments to: Regulatory Affairs Group (630), Bureau of Land Management, Mailstop 401LS, 1849 C Street, NW., Washington, DC 20240.

You may send comments via Internet to: WOComment@blm.gov. Please include “ATTN: 1004-0103” and your name and return address in your Internet message.

You may deliver comments to the Bureau of Land Management, Administrative Record, Room 401, 1620 L Street, NW., Washington, DC.

Comments will be available for public review at the L Street address during regular business hours (7:45 a.m. to 4:15 p.m.) Monday through Friday.

FOR FURTHER INFORMATION CONTACT: You may contact Durga N. Rimal on (202) 452-0372 (Commercial or FTS). Persons who use a telecommunication device for the deaf (TDD) may call the Federal Information Relay Service (FIRS) on 1-800-877-8330, 24 hours a day, seven days a week, to contact Mr. Rimal.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

The Mineral Materials Act of 1947, as amended (Act), 30 U.S.C. 601 and 602, provides for the disposal of mineral materials, such as sand, gravel, and petrified wood from public lands by sale or free use. BLM implements disposing of such materials under 43 CFR 3600 and 3610. BLM will use Form 3600-1 to collect information to:

(1) Determine if the sale of mineral materials is in the public interest;

(2) Mitigate the environmental impacts of mineral materials development;

(3) Get fair market value for the materials sold; and

(4) Prevent trespass removal of the materials.

Applicants must submit a request in writing to BLM to purchase mineral materials. Specific information requirements are not stated in the regulations, but all sale agreements are make on the contract form approved by BLM.

Based upon BLM experience and recent tabulations of activity, we process approximately 2,800 contracts for mineral materials each year. The public reporting information collection burden takes 30 minutes. Depending on the complexity of the projects, actual time may vary from 15 minutes to several days to complete and compile supporting documentation. The estimated number of responses per year is 2,800. The estimated total annual burden is 1,475 hours.

BLM will summarize all responses to this notice and include them in the request for OMB approval. All comments will become a matter of public record.

Dated: July 23, 2001.
Michael H. Schwartz,
BLM Information Collection Clearance Officer.

[FR Doc. 01-19211 Filed 7-31-01; 8:45 am]

BILLING CODE 4310-54-M